DEPARTMENT OF COMMERCE

Bureau of Export Administration

15 CFR Part 744

[Docket No. 9704-28099-0127-10]

RIN 0694-AB60

Entity List: Revisions and Additions

AGENCY: Bureau of Export Administration, Commerce.

ACTION: Final rule.

SUMMARY: The Export Administration Regulations (EAR) provide that the Bureau of Export Administration (BXA) may inform exporters, individually or through amendment to the EAR, that a license is required for exports or reexports to certain entities. The EAR contain a list of such entities called the Entity List. This rule adds to the Entity List twelve entities located in the People's Republic of China (PRC). This rule also modifies three Russian entity listings and one Chinese entity listing, and makes one correction to an Israeli entity.

EFFECTIVE DATE: This rule is effective May 14, 2001.

FOR FURTHER INFORMATION CONTACT: Eileen M. Albanese, Office of Exporter Services, Bureau of Export Administration, Telephone: (202) 482-0436.

SUPPLEMENTARY INFORMATION:

Background

General Prohibition Five (§ 736.2(b)(5) of the EAR) prohibits exports and reexports to certain end-users or end-uses (described in part 744 of the EAR) without a license. In the form of Supplement No. 4 to part 744, BXA maintains an “Entity List” to provide notice informing the public of certain entities subject to such licensing requirements.

There are three levels of license requirements for the twelve entities added to the Entity List by this rule. A license will be required for the export or reexport of all items subject to the EAR having a classification other than EAR99 to the following two PRC entities: Baotou Guanghua Chemical Industrial Corporation and Xian Research Institute of Navigation Technology. A license will be required for the export or reexport of all items subject to the EAR to the following five PRC entities: 13 Institute, China Academy of Launch Vehicle Technology, (CALT), aka 713 Institute or Beijing Institute of Control Devices, PRC; Beijing Power Machinery Institute, PRC; Beijing University of Aeronautics and Astronautics (BUAA), PRC; First Department, China Academy of Launch Vehicle Technology, (CALT), PRC; and Xiangdong Machinery Factory, PRC. A license will be required for the export or reexport of all items subject to the EAR having a classification other than EAR99 or a classification where the third through fifth digits are “999” of the ECCN, e.g., XX999 to the following five PRC entities: 35 Institute, aka Beijing Huahang Radio Measurements Research Institute; 33 Institute, aka Beijing Institute of Automatic Control Equipment; Southwest Research Institute of Electronics Technology, Chengdu; Northwestern Polytechnical University; and 54th Research Institute of China, aka Communication, Telemetry and Telecontrol Research Institute (CTI).

License applications to export or reexport these items to all but one of the entities (the Baotou Guanghua Chemical Industrial Corporation, 202 Factory Baotou located in Inner Mongolia, PRC) will be reviewed based on the license review standards for missile end-uses found in section 744.3 of the Export Administration Regulations. Therefore, applications will be considered on a case-by-case basis to determine whether the export would make a material contribution to the proliferation of missiles. When an export or reexport is deemed to make a material contribution, the license will be denied.

License applications to export or reexport all items subject to the EAR having a classification other than EAR99 to Baotou Guanghua Chemical Industrial Corporation, 202 Factory Baotou, Inner Mongolia, PRC will be reviewed based on the license review criteria set out for nuclear end-uses found in section 744.2 of the Export Administration Regulations.

This rule also clarifies the location of the Russian entities “All-Russian Scientific Research Institute of Technical Physics”, “All-Union Scientific Research Institute of Experimental Physics”, and “Ministry for Atomic Power of Russia” by adding in parentheticals that “Sarov” is an alternate name for the city of Kremlev, i.e., Kremlev (Sarov).

In addition, this rule adds an alternate name that is used by the Chinese Academy of Engineering Physics, Southwest Institute of Nuclear Physics and Chemistry. This institute is also known as the China Academy of Eng[ineering] Physics [CAEP]'s 902 Institute located in Mianyang, PRC.

On March 10, 2000, a rule was published that revised the license requirement section of Ben Gurion University on the Entity List. This rule adds the inadvertently omitted Federal Register citation of the March 10 revision to the Federal Register Citation column of the Israeli entity “Ben Gurion University'.

Rulemaking Requirements

1. This final rule has been determined to be not significant for purposes of E.O. 12866.

2. This rule involves a collection of information subject to the Paperwork Reduction Act of 1980 (44 U.S.C. 3501 et seq.). These collections have been approved by the Office of Management and Budget under control number 0694-0088, “Multi-Purpose Application,” which carries a burden hour estimate of 40 minutes to prepare and submit electronically and 45 minutes to submit manually on form BXA-748P. Notwithstanding any other provision of law, no person is required to respond nor shall any person be subject to a penalty for failure to comply with, a collection of information subject to the requirements of the Paperwork Reduction Act, unless that collection of information displays a currently valid OMB Control Number.

3. This rule does not contain policies with Federalism implications sufficient to warrant preparation of a Federalism assessment under Executive Order 13132.

4. The provisions of the Administrative Procedure Act (5 U.S.C. 553) requiring notice of proposed rulemaking, the opportunity for public participation, and a delay in effective date, are inapplicable because this regulation involves a military and foreign affairs function of the United States (see 5 U.S.C. 553(a)(1)). Further, no other law requires that a notice of proposed rulemaking and an opportunity for public comment be given for this final rule. Because a notice of proposed rulemaking and an opportunity for public comment are not required to be given for this rule under 5 U.S.C. 553 or by any other law, the analytical requirements of the Regulatory Flexibility Act (5 U.S.C. 601 et seq.) are not applicable.

Therefore, this regulation is issued in final form. Although there is no formal comment period, public comments on this regulation are welcome on a continuing basis. Comments should be submitted to Sharron Cook, Regulatory Policy Division, Bureau of Export Administration, Department of Commerce, P.O. Box 273, Washington, DC 20044.

List of Subjects in 15 CFR Part 744

Exports, Foreign trade, Reporting and recordkeeping requirements.

Accordingly, part 744 of the Export Administration Regulations (15 CFR parts 730-799) is amended as follows:

1. The authority citation for 15 CFR part 744 is revised to read as follows:

Authority: 50 U.S.C. app. 2401 et seq.; Pub. L. 106-508; 50 U.S.C. 1701 et seq.; 22 U.S.C. 3201 et seq.; 42 U.S.C. 2139a; E.O. 12058, 43 FR 20947, 3 CFR, 1978 Comp., p. 179; E.O. 12851, 58 FR 33181, 3 CFR, 1993 Comp., p. 608; E.O. 12924, 59 FR 43437, 3 CFR, 1994 Comp., p. 917; E.O. 12938, 59 FR 59099, 3 CFR, 1994 Comp., p. 950; E.O. 13026, 61 FR 58767, 3 CFR, 1996 Comp., p. 228; E.O. 13206 (66 FR 18397, April 9, 2001); Notice of November 9, 2000 (65 FR 68063, November 13, 2000).

PART 744—[AMENDED]

2. Supplement No. 4 to part 744 is amended as follows:

a. In the country “Israel” entry, in the entry for the Israeli entity “Ben Gurion University, Israel” in the “Federal Register Citation” column, revise the entry to read “62 FR 4910, 2/3/97; 65 FR 12919, 3/10/00.”;

b. Amending the country “China, People's Republic of” entry by revising the entry for the Chinese entity “Chinese Academy of Engineering Physics” and amending the country “Russia” by revising the Russian entities “All-Russian Scientific Research Institute of Technical Physics”, “All-Union Scientific Research Institute of Experimental Physics”, and “Ministry for Atomic Power of Russia”, to read as follows; and

c. Adding, in alphabetical order, the following entities for “China, People's Republic of”, to read as follows:

Supplement No. 4 to Part 744—Entity List

Country and entity | License requirement | License review policy | Federal Register citation
* * * * * * *
China, People's Republic of:
13 Institute, China Academy of Launch Vehicle Technology, (CALT), aka 713 Institute or Beijing Institute of Control Devices | For all items subject to the EAR | See § 744.3(d) of this part | 66 FR 24265, May 14, 2001.
33 Institute, aka Beijing Institute of Automatic Control Equipment | For all items subject to the EAR having a classification other than EAR99 or a classification where the third through fifth digits of the ECCN are “999”, e.g., XX999 | See § 744.3(d) of this part | 66 FR 24266, May 14, 2001.
35 Institute, aka Beijing Huahang Radio Measurements Research Institute | For all items subject to the EAR having a classification other than EAR99 or a classification where the third through fifth digits of the ECCN are “999”, e.g., XX999 | See § 744.3(d) of this part | 66 FR 24266, May 14, 2001.
54th Research Institute of China, aka Communication, Telemetry and Telecontrol Research Institute (CTI) | For all items subject to the EAR having a classification other than EAR99 or a classification where the third through fifth digits of the ECCN are “999”, e.g., XX999 | See § 744.3(d) of this part | 66 FR 24266, May 14, 2001.
Baotou Guanghua Chemical Industrial Corporation, 202 Factory Baotou, Inner Mongolia | For all items subject to the EAR having a classification other than EAR99 | See § 744.2(d) of this part | 66 FR 24266, May 14, 2001.
* * * * * * *
Beijing Power Machinery Institute | For all items subject to the EAR | See § 744.3(d) of this part | 66 FR 24266, May 14, 2001.
Beijing University of Aeronautics and Astronautics (BUAA) | For all items subject to the EAR | See § 744.3(d) of this part | 66 FR 24266, May 14, 2001.
* * * * * * *
Chinese Academy of Engineering Physics (aka Ninth Academy, including the Southwest Institutes of: Applied Electronics, Chemical Materials, Electronic Engineering, Explosives and Chemical Engineering, Environmental Testing, Fluid Physics, General Designing and Assembly, Machining Technology, Materials, Nuclear Physics and Chemistry (aka China Academy of Eng[ineering] Physics [CAEP]'s 902 Institute, Mianyang), Structural Mechanics; Research and Applications of Special Materials Factory; Southwest Computing Center (all of preceding located in or near Mianyang, Sichuan Province); Institute of Applied Physics and Computational Mathematics, Beijing; and High Power Laser Laboratory, Shanghai) | For all items subject to the EAR | Case-by-case basis | 62 FR 35334, 6/30/97; 66 FR 24266, May 14, 2001.
* * * * * * *
First Department, China Academy of Launch Vehicle Technology, (CALT) | For all items subject to the EAR | See § 744.3(d) of this part | 66 FR 24266, May 14, 2001.
* * * * * * *
Northwestern Polytechnical University | For all items subject to the EAR having a classification other than EAR99 or a classification where the third through fifth digits of the ECCN are “999”, e.g., XX999 | See § 744.3(d) of this part | 66 FR 24266, May 14, 2001.
* * * * * * *
Southwest Research Institute of Electronics Technology, Chengdu | For all items subject to the EAR having a classification other than EAR99 or a classification where the third through fifth digits of the ECCN are “999”, e.g., XX999 | See § 744.3(d) of this part | 66 FR 24267, May 14, 2001.
* * * * * * *
Xian Research Institute of Navigation Technology | For all items subject to the EAR having a classification other than EAR99 | See § 744.3(d) of this part | 66 FR 24267, May 14, 2001.
Xiangdong Machinery Factory | For all items subject to the EAR | See § 744.3(d) of this part | 66 FR 24267, May 14, 2001.
* * * * * * *
Russia:
All-Russian Scientific Research Institute of Technical Physics, (aka VNIITF, Chelyabinsk-70, All-Russian Research Institute of Technical Physics, ARITP, Russian Federal Nuclear Center) located in either Snezhinsk or Kremlev (Sarov) | For all items subject to the EAR | Case-by-case basis | 62 FR 35334, 6/30/97; 66 FR 24267, May 14, 2001.
All-Union Scientific Research Institute of Experimental Physics, (aka VNIIEF, Arzamas-16, Russian Federal Nuclear Center, All Russian Research Institute of Experimental Physics, ARIEP, Khariton Institute) located in either Snezhinsk or Kremlev (Sarov) | For all items subject to the EAR | Case-by-case basis | 62 FR 35334, 6/30/97; 66 FR 24267, May 14, 2001.
* * * * * * *
Ministry for Atomic Power of Russia (any entities, institutes, or centers associated with) located in either Snezhinsk or Kremlev (Sarov) | For all items subject to the EAR | Case-by-case basis | 62 FR 35334, 6/30/97; 66 FR 24267, May 14, 2001.
* * * * * * *

Dated: May 9, 2001.
Matthew S. Borman,
Deputy Assistant Secretary for Export Administration.

[FR Doc. 01-12188 Filed 5-11-01; 8:45 am]

BILLING CODE 3510-33-P